DEPARTMENT OF HEALTH AND HUMAN SERVICES

Health Resources and Services Administration

Notice of a Supplemental Award, Initiated by the Maternal and Child Health Bureau, to the University of Mississippi Medical Center for the Early Childhood Developmental Health System: Implementation in a High Need State Cooperative Agreement

AGENCY: Health Resources and Services Administration (HRSA), Department of Health and Human Services.

ACTION: Notice of a Supplemental Award.

SUMMARY: HRSA announces the award of a supplement for $3,500,000 to the University of Mississippi Medical Center for the Early Childhood Developmental Health System: Implementation in a High Need State program. The supplement will add another year of funding to the current recipient, during the period of September 30, 2020-September 29, 2021, to continue a study focused on improving child health through a statewide system of early childhood developmental screenings and interventions.

FOR FURTHER INFORMATION CONTACT: Dina Lieser, Division of Home Visiting and Early Childhood Systems, HRSA, 26 Federal Plaza, Room 3337, New York, NY 10278, Phone: (240) 463-7726 or Email: dlieser@hrsa.gov.

SUPPLEMENTARY INFORMATION:

Intended Recipient of Award: University of Mississippi Medical Center.

Amount of Award: $3,500,000.

Project Period: 09/30/2020-09/29/2021.

CFDA Number: 93.110.

Authority: Social Security Act, Title V, § 501(a)(2), (42 U.S.C. 701(a)(2)).

Justification: The Early Childhood Developmental Health System: Implementation in a High Need State program was first funded in September 2017. At that time, HRSA awarded $3,500,000 to the University of Mississippi Medical Center for a 3-year project period to conduct this program. After an extensive needs assessment of children ages 0-5 years and their families in Mississippi, progress has been made towards goals articulated in the Notice of Funding Opportunity: (1) Increasing the proportion of children receiving age appropriate developmental screening and (2) increasing the number of the state's early childhood providers who demonstrate improved practices around developmental health promotion.

The purpose of the non-competitive supplement from HRSA is to give the recipient the opportunity to maximize the efficiency, reach and impact of the program and leverage findings that will be valuable to other states. This extended year will allow the recipient to continue efforts to promote systemic change and support spread, scale, and sustainability of interventions and impact. The lessons learned and progress made in the first 3 years of the program will help to increase understanding of facilitators and barriers to implementation and will serve as a model for other states.

Grantee/organization name | Grant No. | State | FY 2019 authorized funding level | FY 2020 proposed funding level
University of Mississippi Medical Center | UK2MC31456 | MS | $3,500,000 | $3,500,000

Thomas J. Engels,
Administrator.

[FR Doc. 2020-15802 Filed 7-21-20; 8:45 am]

BILLING CODE 4165-15-P